DEPARTMENT OF TRANSPORTATION

Federal Aviation Administration

Agency Information Collection Activities; Requests for Comments: Clearance of Renewed Approval of Information Collection; Organization Designation Authorization

AGENCY: Federal Aviation Administration (FAA), DOT.

ACTION: Notice and request for comments.

SUMMARY: In accordance with the Paperwork Reduction Act of 1995, FAA invites public comments about our intention to request the Office of Management and Budget (OMB) approval to renew an information collection. The Federal Register Notice with a 60-day comment period soliciting comments on the following collection of information was published on August 24, 2011, vol. 76, no. 164, page 53023-53024. This collection involves organizations applying to perform certification functions on behalf of the FAA, including approving data and issuing various aircraft and organization certificates.

DATES: Written comments should be submitted by November 25, 2011.

FOR FURTHER INFORMATION CONTACT: Kathy DePaepe at (405) 954-9362, or by e-mail at: Kathy A. DePaepe @faa.gov.

SUPPLEMENTARY INFORMATION: OMB Control Number: 2120-0704.

Title: Organization Designation Authorization.

Form Numbers: FAA Forms 8100-11, 8100-12, 8100-13.

Type of Review: Renewal of an information collection.

Background: Subpart D to part 183 allows the FAA to appoint organizations as representatives of the administrator. As authorized, these organizations perform certification functions on behalf of the FAA. Applications are submitted to the appropriate FAA office and are reviewed by the FAA to determine whether the applicant meets the requirements necessary to be authorized as a representative of the Administrator. Procedures manuals are submitted and approved by the FAA as a means to ensure that the correct processes are utilized when performing functions on behalf of the FAA. These requirements are necessary to manage the various approvals issued by the organization and to document approvals issued and must be maintained in order to address potential future safety issues.

Respondents: Approximately 83 applicants.

Frequency: Information is collected on occasion.

Estimated Average Burden per Response: 41.7 hours.

Estimated Total Annual Burden: 5,158 hours.

ADDRESSES: Interested persons are invited to submit written comments on the proposed information collection to the Office of Information and Regulatory Affairs, Office of Management and Budget. Comments should be addressed to the attention of the Desk Officer, Department of Transportation/FAA, and sent via electronic mail to oira_submission@omb.eop.gov, or faxed to (202) 395-6974, or mailed to the Office of Information and Regulatory Affairs, Office of Management and Budget, Docket Library, Room 10102, 725 17th Street, NW., Washington, DC 20503.

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

Issued in Washington, DC, on October 20, 2011.
Albert R. Spence,
FAA Assistant Information Collection Clearance Officer, IT Enterprises Business Services Division, AES-200.

[FR Doc. 2011-27712 Filed 10-25-11; 8:45 am]

BILLING CODE 4910-13-P